DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on November 14, 2001 on pages 57149-57150.

DATES: Comments must be submitted on or before April 29, 2002. A comment to OMB is most effective if OMB receives it within 30 days of publication.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

FOR FURTHER INFORMATION CONTACT: Judy Street on (202) 267-9895.

SUPPLEMENTARY INFORMATION:

Federal Aviation Administration

Title: Aircraft Registration.

Type of Request: Extension of a currently approved collection.

OMB Control Number: 2120-0042.

Form(s): AC8050-1, AC8050-2, AC8050-4, AC8050-81, AC8050-98, AC8050-117.

Affected Public: A total of 41978 individual airmen, state & local governments, and businesses.

Abstract: The information requested is used by the FAA to register an aircraft or hole an aircraft in trust. The information required to register and prove ownership of an aircraft is required by any person wishing to register an aircraft.

Estimated Annual Burden Hours: An estimated 67,153 hours annually.

Issued in Washington, DC, on March 22, 2002.
Patricia W. Carter,
Acting Manager, Standard and Information Division, APF-100.

[FR Doc. 02-7489 Filed 3-27-02; 8:45 am]

BILLING CODE 4910-13-M